DEPARTMENT OF HEALTH AND HUMAN SERVICES

Centers for Disease Control and Prevention

Board of Scientific Counselors, Coordinating Center for Infectious Diseases, (BSC, CCID)

In accordance with section 10(a)(2) of the Federal Advisory Committee Act (Pub. L. 92-463), the Centers for Disease Control and Prevention (CDC), announces the following meeting of the aforementioned committee:

Time and Date: 10 a.m.-11 a.m., March 2, 2010.

Place: Teleconference.

Status: Open to the public, the toll free dial in number is 1-866-880-0098 with a pass code of 9887280.

Purpose: The BSC, CCID shall advise the Secretary, HHS, and the Director, CDC concerning strategies and goals for the programs and research within the national centers; will administer and oversee peer review of scientific programs; and monitor the overall strategic direction and focus of the national centers.

Matters To Be Discussed: Agenda items will include:

1. Update from Dr. Khabbaz.

2. Update on H1N1 response.

3. Update from National Center for HIV/AIDS, Viral Hepatitis, STD, and TB Prevention.

4. Update from National Center for Immunization and Respiratory Diseases.

5. Update from National Center for Emerging and Zoonotic Infectious Diseases.

6. Plan the May meeting.

Written comments are welcome and should be received by the contact person listed below prior to the opening of the meeting.

Agenda items are subject to change as priorities dictate.

For More Information Contact: Leola Mitchell, Office of the Director, CCID, CDC, Mailstop E06, 1600 Clifton Road, NE., Atlanta, Georgia 30333, Telephone (404) 639-6405, e-mail: fvp9@cdc.gov.

The Director, Management Analysis and Services Office has been delegated the authority to sign Federal Register notices pertaining to announcements of meetings and other committee management activities, for both CDC and the Agency for Toxic Substances and Disease Registry.

Dated: February 8, 2010.
Elaine L. Baker,
Director, Management Analysis and Services Office, Centers for Disease Control and Prevention.

[FR Doc. 2010-3056 Filed 2-17-10; 8:45 am]

BILLING CODE 4163-18-P